DEPARTMENT OF TRANSPORTATION

Federal Motor Carrier Safety Administration

[Docket No. FMCSA-2010-0161]

Qualification of Drivers; Exemption Applications; Vision

AGENCY: Federal Motor Carrier Safety Administration (FMCSA), DOT.

ACTION: Notice of applications for exemptions; request for comments.

SUMMARY: FMCSA announces receipt of applications from 17 individuals for exemption from the vision requirement in the Federal Motor Carrier Safety Regulations. If granted, the exemptions would enable these individuals to qualify as drivers of commercial motor vehicles (CMVs) in interstate commerce without meeting the Federal vision standard.

DATES: Comments must be received on or before October 28, 2010.

ADDRESSES: You may submit comments bearing the Federal Docket Management System (FDMS) Docket No. FMCSA-2010-0161 using any of the following methods:

• Federal eRulemaking Portal: Go to http://www.regulations.gov. Follow the online instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal Holidays.

• Fax: 1-202-493-2251.

Instructions: Each submission must include the Agency name and the docket numbers for this Notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments online.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 17 individuals listed in this Notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

Ramon Adame

Mr. Adame, age 48, has had retinal detachment in his left eye since 1983. The best corrected visual acuity in his right eye is 20/20 and in his left eye, light perception only. Following an examination in 2009, his optometrist noted, “Has sufficient vision to drive a commercial vehicle.” Mr. Adame reported that he has driven straight trucks for 6 years, accumulating 165,000 miles. He holds a Class B Commercial Driver's License (CDL) from Illinois. His driving record for the last 3 years shows no crashes and no convictions for moving violations in a CMV.

Calvin D. Bills

Mr. Bills, 59, has had amblyopia in his right eye since childhood. The best corrected visual acuity in his right eye is 20/70 and in his left eye, 20/20. Following an examination in 2009, his optometrist noted, “Mr. Calvin Bills, in my opinion, has the ability and sufficient vision to perform the driving tasks required to operate a commercial vehicle.” Mr. Bills reported that he has driven straight trucks for 5 years, accumulating 50,000 miles and tractor-trailer combinations for 10 years, accumulating 4 million miles. He holds a Class A CDL from Virginia. His driving record for the last 3 years shows no crashes and no convictions for moving violations in a CMV.

Joel W. Bryant

Mr. Bryant, 53, has had a prosthetic right eye since 1990 due to a traumatic injury. The best corrected visual acuity in his left eye is 20/20. Following an examination in 2009, his optometrist noted, “Mr. Bryant appears to have sufficient vision to perform driving tasks in operating a commercial vehicle using his left eye.” Mr. Bryant reported that he has driven straight trucks for 32 years, accumulating 1.2 million miles and tractor-trailer combinations for 3 years, accumulating 150,000 miles. He holds a Class D chauffeur's license from Louisiana. His driving record for the last 3 years shows no crashes and no convictions for moving violations in a CMV.

Jonathan Carriaga

Mr. Carriaga, 35, has had amblyopia in his left eye since childhood. The best corrected visual acuity in his right eye is 20/20 and in his left eye, 20/60. Following an examination in 2010, his optometrist noted, “In my medical opinion Jonathan Carriaga has sufficient vision with or without glasses to drive a commercial vehicle safely.” Mr. Carriaga reported that he has driven straight trucks for 12 years, accumulating 62,400 miles and tractor-trailer combinations for 10 years, accumulating 52,000 miles. He holds a Class A CDL from New Mexico. His driving record for the last 3 years shows no crashes and no convictions for moving violations in a CMV.

Michael R. Clark

Mr. Clark, 54, has had macular scarring in his right eye since childhood. The best corrected visual acuity in his right eye is 20/200 and in his left eye, 20/15. Following an examination in 2010, his optometrist noted, “It is my medical opinion that Mr. Clark has sufficient vision to perform all driving tasks required of him to drive a commercial vehicle.” Mr. Clark reported that he has driven straight trucks for 5 years, accumulating 100,000 miles and tractor-trailer combinations for 26 years accumulating 1.3 million miles. He holds a Class A CDL from Tennessee. His driving record for the last 3 years shows no crashes and no convictions for moving violations in a CMV.

James D. Drabek, Jr.

Mr. Drabek, 52, has had idiopathic macular choroidal neovascularization in both eyes since 1998. The best corrected visual acuity in his right eye is 20/60 and in his left eye, 20/20. Following an examination in 2010, his optometrist noted, “James Drabek, Jr. has sufficient vision to perform driving tasks required to operate a commercial vehicle.” Mr. Drabek reported that he has driven tractor-trailer combinations for 28 years, accumulating 1.4 million miles. He holds a Class A CDL from Illinois. His driving record for the last 3 years shows no crashes and no convictions for moving violations in a CMV.

Curtis E. Firari

Mr. Firari, 54, has had macular scarring in his left eye since 1976. The best corrected visual acuity in his right eye is 20/15 and in his left eye, 20/350. Following an examination in 2010, his optometrist noted, “In my opinion, Curt has sufficient vision to perform the driving tasks required to operate a commercial vehicle.” Mr. Firari reported that he has driven tractor-trailer combinations for 33 years accumulating 330,000 miles. He holds a Class A CDL from Wisconsin. His driving record for the last 3 years shows no crashes and no convictions for moving violations in a CMV.

Percy L. Gaston

Mr. Gaston, 57, has had central vision loss in his right eye since childhood. The best corrected visual acuity in his right eye is hand-motion vision and in his left eye, 20/20. Following an examination in 2010, his ophthalmologist noted, “Patient has sufficient vision at this time to operate a commercial vehicle.” Mr. Gaston reported that he has driven straight trucks for 2 years, accumulating 5,200 miles and tractor-trailer combinations for 29 years, accumulating 105,560 miles. He holds a Class A CDL from Texas. His driving record for the last 3 years shows no crashes and no convictions for moving violations in a CMV.

Ronald M. Green

Mr. Green, 51, has had central serous retinopathy in his right eye since 1997. The best corrected visual acuity in his right eye is 20/60 and in his left eye, 20/15. Following an examination in 2010, his optometrist noted, “I certify that in my medical opinion, Ronald Green has sufficient vision to perform the driving tasks required to operate a commercial vehicle.” Mr. Green reported that he has driven tractor-trailer combinations for 13 years, accumulating 1 million miles. He holds a Class A CDL from Ohio. His driving record for the last 3 years shows no crashes and no convictions for moving violations in a CMV.

Richard Iocolano

Mr. Iocolano, 51, has had retinal scarring in his left eye since childhood. The best corrected visual acuity in his right eye is 20/20 and in his left eye, 20/400. Following an examination in 2010, his ophthalmologist noted, “In my opinion Richard has sufficient vision to perform the driving tasks required to operate a commercial vehicle safely.” Mr. Iocolano reported that he has driven straight trucks for 35 years, accumulating 350,000 miles. He holds a Class B CDL from New York. His driving record for the last 3 years shows no crashes and no convictions for moving violations in a CMV.

Daniel W. Johnson

Mr. Johnson, 50, has had retinal scarring in his right eye since 2002. The best corrected visual acuity in his right eye is light perception only and in his left eye, 20/20. Following an examination in 2010, his optometrist noted, “There would be no reason to think that he could not perform all the visual tasks required to drive. It is my opinion that he is visually able to perform commercial driving tasks.” Mr. Johnson reported that he has driven straight trucks for 3 years, accumulating 39,000 miles. He holds a Class A CDL from New York. His driving record for the last 3 years shows no crashes and no convictions for moving violations in a CMV.

Albert E. Joiner

Mr. Joiner, 53, has had macular scarring in his right eye since 2006. The best corrected visual acuity in his right eye is 20/400 and in his left eye, 20/20. Following an examination in 2009, his ophthalmologist noted, “In my medical opinion, I believe the applicant has sufficient vision to perform the driving tasks required to operate a commercial vehicle.” Mr. Joiner reported that he has driven straight trucks for 4 years, accumulating 166,400 miles and tractor-trailer combinations for 33 years accumulating 2.5 million miles. He holds a Class A CDL from Ohio. His driving record for the last 3 years shows no crashes and no convictions for moving violations in a CMV.

Richard L. Kelley

Mr. Kelley, 72, has had optic nerve atrophy in his left eye since 2000. The best corrected visual acuity in his right eye is 20/25 and in his left eye, 20/150. Following an examination in 2010, his ophthalmologist noted, “It is my opinion that he has sufficient vision to perform the driving tasks required to operate a commercial vehicle.” Mr. Kelley reported that he has driven tractor-trailer combinations for 27 years, accumulating 3.3 million miles. He holds a Class A CDL from Minnesota. His driving record for the last 3 years shows no crashes and no convictions for moving violations in a CMV.

Charles E. Queen

Mr. Queen, 53, sustained traumatic injury to his left optic nerve at age 14. The best corrected visual acuity in his right eye is 20/20 and in his left eye, 20/300. Following an examination in 2009, his optometrist noted, “In my medical opinion, Charles E. Queen has sufficient peripheral vision to perform the driving tasks required to operate a commercial vehicle.” Mr. Queen reported that he has driven straight trucks for 26 years, accumulating 1.6 million miles and tractor-trailer combinations for 26 years, accumulating 1.6 million miles. He holds a Class A CDL from Ohio. His driving record for the last 3 years shows no crashes and no convictions for moving violations in a CMV.

Matias P. Quintanilla

Mr. Quintanilla, 47, has a ruptured globe in his left eye due to a traumatic injury sustained in 2005. The best corrected visual acuity in his right eye is 20/20 and in his left eye, hand-motion vision. Following an examination in 2010, his optometrist noted, “In my opinion, he should have sufficient vision to operate a commercial vehicle.”

Mr. Quintanilla reported that he has driven tractor-trailer combinations for 9 years, accumulating 720,000 miles. He holds a Class A CDL from California. His driving record for the last 3 years shows no crashes and no convictions for moving violations in a CMV.

Richard T. Traigle

Mr. Traigle, 49, has had macular scarring in his left eye since 2000. The best corrected visual acuity in his right eye is 20/20 and in his left eye, 20/200. Following an examination in 2010, his ophthalmologist noted, “In my medical opinion, Mr. Traigle has sufficient vision to perform any driving tasks that he may need to perform in operating a commercial vehicle.” Mr. Traigle reported that he has driven straight trucks for 15 years, accumulating 300,000 miles. He holds a Class D chauffeur's from Louisiana. His driving record for the last 3 years shows no crashes and no convictions for moving violations in a CMV.

Eugene E. Wright

Mr. Wright, 62, has had amblyopia in his left eye since 1998. The best corrected visual acuity in his right eye is 20/20 and in his left eye, 20/400. Following an examination in 2010, his ophthalmologist noted, “In my opinion he has adequate visual acuity and field to drive a commercial vehicle.” Mr. Wright reported that he has driven tractor-trailer combinations for 16 years, accumulating 1.5 million miles. He holds a Class A CDL from Pennsylvania. His driving record for the last 3 years shows no crashes and no convictions for moving violations in a CMV.

Request for Comments

In accordance with 49 U.S.C. 31136(e) and 31315, FMCSA requests public comment from all interested persons on the exemption petitions described in this Notice. The Agency will consider all comments received before the close of business October 28, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: September 21, 2010.
Larry W. Minor,
Associate Administrator for Policy and Program Development.

[FR Doc. 2010-24204 Filed 9-27-10; 8:45 am]

BILLING CODE 4910-EX-P